FARM CREDIT ADMINISTRATION

12 CFR Part 603

Privacy Act Regulations

CFR Correction

In Title 12 of the Code of Federal Regulations, Parts 600 to 899, revised as of January 1, 2015, on page 17, in § 603.350, remove the term “Section 552a (l)(3)” and add “Section 552a (i)(3)” in its place.

[FR Doc. 2015-31731 Filed 12-16-15; 8:45 am]

BILLING CODE 1505-01-D